DEPARTMENT OF VETERANS AFFAIRS

Privacy Act of 1974; System of Records

AGENCY: Department of Veterans Affairs.

ACTION: Notice of Amendment of System of Records Notice “Personnel and Accounting Integrated Data System”—VA (27VA047).

SUMMARY: As required by the Privacy Act of 1974, 5 U.S.C. 552a(e)(4) notice is hereby given that the Department of Veterans Affairs (VA) proposes to amend a system of records entitled “Personnel and Accounting Integrated Data System”—VA (27VA047). This amendment will update our Routine Uses of Records Maintained in the System. VA has changed the title of this System of Record from “Personnel and Accounting Pay System”—VA (27VA047) to “Personnel and Accounting Integrated Data System”—VA (27VA047). VA is republishing this system of records in its entirety.

DATES: Written comments mailed to the Department must be postmarked no later than August 1, 2012, and written comments hand-delivered or submitted electronically to the Department must be received no later than 5 p.m. Eastern Time on August 1, 2012. If no public comment is received during the 30-day public comment period, or unless otherwise published in the Federal Register by VA, the amended system of records statement is effective August 1, 2012.

ADDRESSES: Written comments may be submitted through http://www.Regulations.gov; by mail or hand-delivery to the Director, Regulations Management (02REG), Department of Veterans Affairs, 810 Vermont Avenue NW., Room 1068, Washington, DC 20420; or by fax to (202) 273-9026. Copies of comments received will be available for public inspection in the Office of Regulation Policy and Management, Room 1063B, between the hours of 8 a.m. and 4:30 p.m., Monday through Friday (except holidays). Please call (202) 461-4902 for an appointment. This is not a toll-free number. In addition, during the comment period, comments may be viewed online through the Federal Docket Management System (FDMS) at http://www.Regulations.gov.

FOR FURTHER INFORMATION CONTACT: Karen Barber, Cost and Debt Management Service (047GC), Department of Veterans Affairs, 810 Vermont Avenue NW., Washington, DC 20420, Telephone: (202) 461-6432 (this is not a toll-free number).

SUPPLEMENTARY INFORMATION: Pursuant to the Privacy Act of 1974 (5 U.S.C. 552a) and the Office of Management and Budget (OMB) Circular No. A-130, VA has conducted a review of its Privacy Act systems of records notices and has determined that the system of records entitled “Personnel and Accounting Integrated Data System”—VA needs to be amended to better identify to the public the types of records that are maintained by VA, the various methods of retention of these records, and the purposes for which the records are used, including Routine uses. VA had determined that several existing Routine uses need to be modified or revised and new Routine uses are proposed to be added to this system of records. VA has determined that the release of information for these purposes is a necessary and proper use of the information in this system of records and that the new specific Routine uses for transfer of this information are appropriate.

The majority of the changes will occur in the following sections: system location, categories of records in the system, Routine uses or records maintained in the system, including categories of users and the purpose of such uses, and policies and practices for storing, retrieving, accessing, retaining, and disposing of records in the system. Because there are a number of changes, VA is republishing this system of records in its entirety.

E-Payroll is an initiative that is part of the President's Management Agenda. Coordinated by OMB and managed by the Office of Personnel Management (OPM), it is designed to save taxpayers dollars and to streamline government payroll operations. One of the major goals is the consolidation of Executive Branch civilian payroll systems into four e-Payroll providers. These four providers are formed into two partnerships: (1) the Department of the Interior's National Business Center (NBC) and the Department of Agriculture's National Finance Center (NFC), and (2) the Defense Finance and Accounting Service (DFAS) and General Services Administration (GSA). OMB selected DFAS as the provider that would process the payroll of VA and other Federal agencies and will collect and maintain personal information concerning the individual employees of the agencies that DFAS services. DFAS has completed the process of migrating client agencies from their existing payroll system to the DFAS payroll system. Therefore, certain portions of 27VA047 must be amended to accommodate this migration and consolidation. Specifically, the “Systems Location” must be amended to include a reference to the collection and maintenance by DFAS of information concerning VA employees.

We are proposing to amend and establish the following Routine use disclosures maintained in the system:

Routine use number 1 is overly broad and as currently written may permit disclosures under conditions not authorized by law. Clarifying language is added to the end of the Routine use.

Routine use number 2 is modified to include Direct Deposit/Electronic Funds Transfer (DD/EFT) reference.

Routine use number 9 is modified so that VA will be able to comply with the requirements of agencies charged with enforcing the law and investigations of violations or possible violations of law. VA must also be able to provide information to Federal, State, local, tribal and foreign agencies charged with protecting the public health as set forth in law.

Routine use number 11 is revised to clarify when information may be released to a Federal, State, or local agency conducting a security or suitability investigation.

Routine use number 15 is revised to better identify situations in which an individual requests the help of a Member of Congress in resolving certain issues relating to a matter before VA. The Member of Congress then responds in writing to VA, and VA in turn must provide sufficient information in response to the inquiry.

Routine use number 16 is clarified to indicate that the National Archives and Records Administration (NARA) is responsible for archiving old records no longer actively used, but which may be appropriate for preservation. NARA is responsible in general for the maintenance of the Federal Government's records. VA must be able to turn records over to NARA in order to determine the proper disposition of such records.

Routine use numbers 18 and 19 are deleted and replaced by a new Routine use number 18 so that whenever VA is involved in litigation or an adjudicative or administrative process, or occasionally when another party is involved in litigation or an adjudicative or administrative process and VA policies or operations could be affected by the outcome of the litigation or process, VA will be able to disclose information to the court, the adjudicative or administrative bodies, or the parties involved. A determination would be made in each instance that, under the circumstances involved, the purpose served by the use of the information in the particular litigation or process is compatible with a purpose for which VA collects the information. Subsequent Routine uses are renumbered because of the deletion of the current Routine use number 19.

Current Routine use number 21 is deleted because legislation relating to restrictions on the outside professional activities of certain full-time title 38 health care professionals has been repealed. Subsequent Routine uses are renumbered as result of this deletion.

Routine use number 22 (former Routine use number 24) is revised because language relating to reporting individuals who have lost or surrendered their clinical privileges should refer to “physicians and other practitioners,” rather than “physicians and dentists.” Clinical privileges are granted to individuals in other occupations (e.g., podiatrists and nurse practitioners).

Routine use number 25 (former Routine use number 27) is changed to refer to “residents” only, rather than “residents and interns.” The term “interns” is no longer used by VA, the general medical community, or examining boards.

Routine use numbers 26 and 27 (former Routine use numbers 28 and 29) are revised for clarity.

New Routine use numbers 33, 34, and 35 are added to authorize release of information to the Department of the Treasury, the Department of Justice, and other Federal agencies for debt collection purposes.

On April 26, 1996, Congress passed Public Law 104-134. Among the provisions of this law was the “Debt Collection Improvement Act of 1996” (DCIA), which authorizes and requires several new techniques for collecting debts. VA and other Federal agencies must now notify the Department of the Treasury of all delinquent debts over 180 days old so that Treasury can collect these debts through administrative offset from Federal payments, including tax refunds and salary payments. VA and other Federal agencies are also required to refer delinquent debts over 180 days old to the Department of the Treasury so that Treasury may attempt to collect, compromise, or terminate these debts. Treasury may also refer these debts to other designated Federal debt collection centers, to the Department of Justice for litigation, or to private collection agencies. The DCIA also authorizes Federal agencies to sell outstanding debts.

Routine use numbers 36 and 37 are added to identify information referred to the Office of Federal Employees' Group Life Insurance and to health care insurance carriers contracting with OPM under the Federal Health Benefits Program.

A new Routine use number 38 is added to identify information transferred to DFAS so that DFAS can effectively process the payroll for VA employees.

A new Routine use number 39 is added to identify information transferred to another Federal agency in order for that agency to conduct a Federal salary offset hearing requested by an indebted VA employee. Under 5 U.S.C. 5514, an agency is required to provide prior written notice to an employee-debtor of the agency's intent to initiate salary offset to collect a debt owed by the employee to the agency. The agency must also notify the employee of the right to request a hearing on the existence and amount of the debt, as well as on the offset schedule. In accordance with 5 U.S.C. 5514(a)(2)(D), the hearing must be conducted by an impartial hearing official not under the supervision or control of the creditor agency, unless the hearing official is an administrative law judge employed by the creditor agency. VA has contracted with another Federal agency to conduct these hearings for VA employees and must transfer information pertaining to the employee to this agency in order to have the hearings conducted.

A new Routine use number 40 is added to enable disclosure to other Federal agencies in order to assist such agencies in preventing and detecting possible fraud or abuse by individuals in their operations and programs.

A new Routine use number 41 is added. VA may, on its own initiative, disclose any information or records to appropriate agencies, entities, and persons to respond to a suspected or confirmed data breach, including the conduct of any risk analysis or provision of credit protection services.

New Routine use numbers 42, 43, and 44 are added. The three new Routine uses are added to enable disclosure of information to the Merit Systems Protection Board (MSPB), the Federal Labor Relations Authority (FLRA), and the Equal Employment Opportunity Commission (EEOC) in order for each to address matters within their jurisdiction.

Finally, VA is adding new Routine use number 45. The new Routine use is added to provide VA information or records to appropriate Federal Government agencies, upon request, for employee accountability purposes, during the time of a declared national, state, or local emergency.

The Privacy Act permits VA to disclose information about individuals without their consent for a Routine use when the information will be used for a purpose that is compatible with the purpose for which VA collected the information. In all of the Routine use disclosures described above, the recipient of the information will use the information either in connection with a matter relating to one of VA's programs, or will use the information to provide a benefit to VA, or will disclose as required by law.

The notice of intent to publish an advance copy of the system notice has been sent to the appropriate Congressional committees and to the Director of the Office of Management and Budget (OMB) as required by 5 U.S.C. 552a(r) (Privacy Act of 1974) and guidelines issued by OMB on December 12, 2000 (65 FR 77677).

Approved: June 7, 2012.
John R. Gingrich,
Chief of Staff, Department of Veterans Affairs.

27VA047

SYSTEM NAME:

“Personnel and Accounting Integrated Data System” —VA

SYSTEM LOCATION:

This system of records is located in the VA Central Office, Washington, DC; the VA Austin Information Technology Center and VA Austin Financial Services Center, Austin, Texas; at the facilities of the Defense Finance and Accounting Service (DFAS) and the Department of Agriculture's National Finance Center (NFC); at the offices of contractors and subcontractors; and VA field facilities.

CATEGORIES OF INDIVIDUALS COVERED BY THE SYSTEM:

Individuals covered by the system are all VA employees, except employees appointed on a without compensation basis, medical or dental residents who receive their stipends and fringe benefits through full disbursement agreements, and employees of the VA Office of Inspector General.

CATEGORIES OF RECORDS IN THE SYSTEM:

These records include, but are not limited to: Name; home address; social security number (SSN); taxpayer identification number (TIN); date of birth; grade; race; employing organization; timekeeper number; salary; pay plan; number of hours worked, including compensatory time; leave accrual rate, usage, and balances; records related to retirement and benefit elections; FICA withholdings; Federal, State, and local tax withholdings; records related to travel expenses and payments; telework indicator codes; carpool and ridesharing program records (i.e., name, address, office location at the facility); public transportation benefit program records; records related to garnishments, deductions, allotments, and direct deposit/electronic funds transfer (DD/EFT); and records related to background information investigations.

AUTHORITY FOR MAINTENANCE OF THE SYSTEM:

38 U.S.C. 501(a); 5 U.S.C. Part III, Subparts D and E.

PURPOSE(S):

These records are used to administer the pay, leave, and travel requirements related to VA employees.

ROUTINE USES OF RECORDS MAINTAINED IN THE SYSTEM, INCLUDING CATEGORIES OF USERS AND THE PURPOSES OF SUCH USES:

1. To produce and maintain automated human resources and payroll information, including reports and statistical data, on VA employees for use by Federal, State, and local agencies and organizations authorized by law or regulation, to have access to such information. These records may be disclosed as part of an ongoing computer-matching program to accomplish these purposes. This Routine use does not authorize the disclosure of information that must be disclosed under the criteria contained in 5 U.S.C. 552a(b)(7), (8), and (11).

2. To transfer human resources and payroll information to complete payroll checks and DD/EFT, bond deductions, and withholding taxes to DFAS to affect delivery of salary payments to VA employees.

3. Transfer payroll information to the Social Security Administration in order to credit quarterly posting for social security.

4. Transfer withholding tax information to State and/or city governments to effect payment of taxes to State and/or city governments and to create W-2s.

5. Transfer retirement record information to the Office of Personnel Management (OPM) in order to provide a history of service and retirement deductions.

6. Information and records in this system may be transferred to the National Archives and Records Administration (NARA) to provide a history of all salaries, deductions, and time and leave.

7. Transfer unemployment compensation information to State agencies to compile unemployment compensation data.

8. Transfer personnel data to OPM in order to provide OPM with a readily accessible major data source for meeting workforce information needs of OPM, national planning agencies, Congress, the White House, and the public.

9. VA may disclose on its own initiative any information in this system, that is relevant to a suspected or reasonably imminent violation of law, whether civil, criminal, or regulatory in nature and whether arising by general or program statute or by regulation, rule, or order issued pursuant thereto, to a Federal, State, local, tribal, or foreign agency charged with the responsibility of investigating or prosecuting such violation, or charged with enforcing or implementing the statute, regulation, rule, or order. VA may also disclose on its own initiative the names and addresses of veterans and their dependants to a Federal agency charged with the responsibility of investigating or prosecuting civil, criminal, or regulatory violations of law, or charged with enforcing or implementing the statute, regulation, or order issued pursuant thereto.

10. A record from this system of records may be disclosed as a “routine use” to a Federal, State, or local agency, or to a non-governmental organization maintaining civil, criminal, or other relevant information, such as current licenses, registration, or certification, if necessary to obtain information relevant to an agency decision concerning the hiring or retention of an employee, the use of an individual as a consultant, attending or to provide fee basis health care, the issuance of a security clearance, the letting of a contract, or the issuance of a license, grant, or other benefits. These records may also be disclosed as part of an ongoing computer matching program to accomplish these purposes.

11. A record from this system of records may be disclosed to a Federal, State, or local agency in response to its request, in connection with the hiring and retention of an employee, the issuance of a security clearance, the conducting of a security or suitability investigation of an individual, the letting of a contract or the issuance of a license, grant or other benefit by the requesting agency, to the extent that the information is relevant and necessary to the requesting agency's decision on the matter.

12. Relevant information from this system of records, including the nature and amount of a financial obligation, may be disclosed as a “routine use”, in order to assist VA in the collection of unpaid financial obligations owed to VA, to a debtor's employing agency or commanding officer so that the debtor-employee may be counseled by his or her Federal employer or commanding officer. This purpose is consistent with the Government-wide debt collection standards set forth at 31 U.S.C. chapter 37, subchapters I and II, 31 CFR parts 900-904, and VA regulations 38 CFR 1.900-1.954.

13. To provide State and local taxing authorities employee names, home addresses, social security numbers, gross compensation paid for a given period, taxes withheld for the benefit of the recipient jurisdiction or other jurisdictions, according to the provisions of State and/or local law.

14. Relevant information from this system of records, including available identifying data regarding the debtor, such as name of debtor, last known address of debtor, social security number of debtor, place and date of birth of debtor, name and address of debtor's employer or firm, and dates of employment, may be disclosed to other Federal agencies, State probate courts, State drivers' license bureaus, and State automobile title and license bureaus as a “routine use” in order to obtain current address, locator and credit report assistance in the collection of unpaid financial obligations owed to the U.S. This purpose is consistent with the Government-wide debt collection standards set forth at 38 U.S.C., chapter 37, subchapters I and II, 31 CFR parts 900-904, and VA regulations 38 CFR 1.900-1.954.

15. The record of an individual who is covered by this system may be disclosed to a Member of Congress, or a staff person acting for the Member, when the Member or staff person requests the record on behalf of and at the written request of the individual.

16. Information and records in this system may be disclosed to NARA in records management inspections conducted under the authority of title 44 U.S.C.

17. The name and general geographic location where an employee resides (not specific home address) may be disclosed by the facility Employee Transportation Coordinator to other employees in order to promote the car/vanpooling and ridesharing program established in accordance with Executive Order 12191 and to enable VA to verify membership in car and vanpools.

18. VA may disclose information from this system of records to the Department of Justice (DoJ), either on VA's initiative or in response to DoJ's request for the information, after either VA or DoJ determines that such information is relevant to DoJ's representation of the United States or any of its components in legal proceedings before a court or adjudicative body, provided that, in each case, the agency also determines prior to disclosure that release of the records to DoJ is a use of the information contained in the records that is compatible with the purpose for which VA collected the records. VA, on its own initiative, may disclose records in this system of records in legal proceedings before a court or administrative body after determining that the disclosure of the records to the court or administrative body is a use of the information contained in the records that is compatible with the purpose for which VA collected the records.

19. The name of the employee, social security number, beginning and ending pay period dates, the number of hours worked during a given pay period, the gross salary and duty station may be disclosed to the Department of Labor's (DOL) Office of Inspector General (IG) in order for DOL IG to conduct a computer match of these records with various State unemployment benefit files. The purpose of this computer-matching program will be to determine if Federal employees have been properly drawing State unemployment benefit payments. These payments are ultimately reimbursed to the State by the Federal Government.

20. Records from this system of records may be disclosed to a Federal, State, or local government agency or licensing board and/or to the Federation of State Medical Boards or a similar nongovernment entity. These entities maintain records concerning an individual's employment or practice histories or concerning the issuance, retention, or revocation of licenses, certifications, or registration necessary to practice an occupation, profession or specialty. Disclosures may be made in order for the agency to obtain information determined relevant to an agency decision concerning the hiring, retention, or termination of an employee. Disclosures may also be made to inform a Federal agency or licensing boards or the appropriate nongovernment entities about the health care practices of a terminated, resigned, or retired health care employee whose professional health care activity so significantly failed to conform to generally accepted standards of professional medical practice as to raise reasonable concern for the health and safety of patients. These records may also be disclosed as part of an ongoing computer-matching program to accomplish these purposes.

21. Any information in this system of records may be disclosed to any State, local, or foreign civil or criminal law enforcement governmental agency or instrumentality charged under applicable law with the protection of the public health or safety for the purpose of protecting public health or safety if qualified representatives of such agency or instrumentality has made a written request that such information be provided in order to meet a statutory reporting requirement.

22. Relevant information from this system of records may be disclosed to the National Practitioner Data Bank and/or State Licensing Board in the State(s) in which a practitioner is licensed, in which the VA facility is located, and/or in which an act or omission occurred upon which a medical malpractice claim was based when VA reports information concerning: (1) Any payment for the benefit of a physician or other licensed health care practitioner which was made as the result of a settlement or judgment of a claim of medical malpractice if an appropriate determination is made in accordance with agency policy that payment was related to substandard care, professional incompetence or professional misconduct on the part of the individual; (2) a final decision which relates to possible incompetence or improper professional conduct that adversely affects the clinical privileges of a physician or other licensed health care practitioner for a period longer than 30 days; or (3) the acceptance of the surrender of clinical privilege or any restriction of such privileges by a physician or other licensed health care practitioner either while under investigation by the health care entity relating to possible incompetence or improper professional conduct, or in return for not conducting such an investigation or proceeding. These records may also be disclosed as part of a computer-matching program to accomplish these purposes.

23. Any information in this system may be disclosed to the Department of the Treasury, Internal Revenue Service (IRS), where required by law or regulation to report withholding information and to affect payment of taxes withheld to IRS and to create W-2s.

24. Relevant information from this system of records, including social security number, date of birth, home address, and the amount of contributions, interfund transfers, or other financial information may be disclosed to the Federal Retirement Thrift Investment Board in order to effect employee participation in the Thrift Savings Plan.

25. Relevant information from this system of records concerning residents employed at VA Medical Centers, including names, social security numbers, occupational titles, and dates of service, may be disclosed to the Health Care Financing Administration (HCFA) as part of an ongoing computer-matching program. The purpose of this computer-matching program is to help ensure that no resident is counted as more than one full-time equivalent in accordance with program regulations governing Medicare education costs.

26. Information from this system of records may be disclosed in response to legal processes, including interrogatories, served on the agency in connection with garnishment proceedings against current or former VA employees under 5 U.S.C. 5520a.

27. Disclosure of relevant information may be made to individuals, organizations, private or public agencies, or other agencies with whom VA has a contract or agreement or where there is a subcontract to perform such services as VA may deem practicable for the purposes of laws administered by VA, in order for the contractor or subcontractor to perform the services of the contract or agreement.

28. The names, social security numbers, home addresses, dates of birth, dates of hire, quarterly earnings, employer identifying information, and State of hire of employees may be disclosed to the Office of Child Support Enforcement, Administration for Children and Families, Department of Health and Human Services Federal Parent Locator System (FPLS) for the purpose of locating individuals to establish paternity, establishing and modifying orders of child support, identifying sources of income, and for other child support enforcement actions as required by the Personal Responsibility and Work Opportunity Reconciliation Act (Welfare Reform Law, Pub. L. 104-193).

29. Information from this system of records may be released to the Social Security Administration for verifying social security numbers in connection with the operation of the FPLS by the Office of Child Support Enforcement.

30. Information from this system of records may be released to the Department of the Treasury for purposes of administering the Earned Income Tax Credit Program (Section 32, Internal Revenue Code of 1986) and verifying a claim with respect to employment in a tax return.

31. To disclose information to the FLRA (including its General Counsel) when requested in connection with the investigation and resolution of allegations of unfair labor practices, in connection with the resolution of exceptions to arbitrator awards when a question of material fact is raised, in connection with matters before the Federal Service Impasses Panel, and to investigate representation petitions and conduct or supervise representation elections.

32. VA may disclose information from this system of records to a court, administrative entity, or custodial parent of a child in order to provide documentation of payroll deductions for child healthcare insurance coverage in accordance with a court or administrative order as required by 5 U.S.C. 8905(h), as enacted by Public Law 106-394, and in accordance with the procedures stated in the applicable Office of Personnel Management Benefits Administration and Payroll Office Letters. VA may also disclose information from this system of records to healthcare insurance carriers in order to enroll employees and their children in healthcare insurance plans in accordance with Public Law 106-394.

33. Any information in this system of records may be disclosed to the Secretary of the Treasury, or to any designated Government disbursing official, for the purpose of conducting administrative offset of any eligible Federal payments in order to collect debts owed to the United States under the authority set forth in 31 U.S.C. 3716. Tax refund and Federal salary payments may be included in those Federal payments eligible for administrative offset.

34. Any information in this system of records concerning a delinquent debt may be disclosed to the Secretary of the Treasury for appropriate collection or termination action, including the transfer of the indebtedness for collection or termination, in accordance with 31 U.S.C. 3711(g)(4), to DFAS, to a debt collection center designated by the Secretary of the Treasury, to a private collection agency, or to the Department of Justice. The Secretary of the Treasury, through the Department of the Treasury, a designated debt collection center, a private collection agency, or DoJ, may take appropriate action on a debt in accordance with the existing laws under which the debt arose.

35. Any information in this system of records may be disclosed to a third party purchaser of delinquent debt sold pursuant to the provisions of 31 U.S.C. 3711(i).

36. To disclose to the Office of Federal Employees' Group Life Insurance information necessary to verify election, declination, or waiver of regular and/or optional life insurance coverage or eligibility for payment of a claim for life insurance.

37. To disclose information to health insurance carriers contracting with OPM under the Federal Health Benefits Program that is necessary to identify enrollment in the plan, to verify eligibility for payment of a claim for health benefits, or to carry out the coordination or audit of benefits provisions of such contracts.

38. Any information in this system of records, including social security numbers and home addresses, may be disclosed to DFAS so that DFAS may process the payment of pay and allowances for VA employees.

39. Any information in this system of records, including social security numbers, may be disclosed to another Federal agency when that agency has been requested to conduct a Federal salary offset hearing under 5 U.S.C. 5514(a)(2)(D) for VA employees.

40. Disclosures to other Federal agencies may be made to assist such agencies in preventing and detecting possible fraud or abuse by individuals in their operations and programs.

41. VA may, on its own initiative, disclose any information or records to appropriate agencies, entities, and persons when (1) VA suspects or has confirmed that the integrity or confidentiality of information in the system of records has been compromised; (2) the Department has determined that as a result of the suspected or confirmed compromise, there is a risk of embarrassment or harm to the reputations of the record subjects, harm to economic or property interests, identity theft or fraud, or harm to the security, confidentiality, or integrity of this system or other systems or programs (whether maintained by the Department or another agency or entity) that rely upon the potentially compromised information; and (3) the disclosure is to agencies, entities, or persons whom VA determines are reasonably necessary to assist or carry out the Department's efforts to respond to the suspected or confirmed compromise and prevent, minimize, or remedy such harm. This Routine use permits disclosures by the Department to respond to a suspected or confirmed data breach, including the conduct of any risk analysis or provision of credit protection services as provided in 38 U.S.C. 5724, as the terms are defined in 38 U.S.C. 5727.

42. VA may disclose information from this system to the Merit Systems Protection Board (MSPB), or the Office of Special Counsel, when requested in connection with appeals, special studies of the civil service and other merit systems, review of rules and regulations, investigation of alleged or possible prohibited personnel practices, and such other functions promulgated in 5 U.S.C. 1205 and 1206, or as authorized by law.

43. VA may disclose information from this system to the FLRA, including its General Counsel, information related to the establishment of jurisdiction, investigation, and resolution of allegations of unfair labor practices, or in connection with the resolution of exceptions to arbitration awards when a question of material fact is raised; for it to address matters properly before the Federal Services Impasses Panel, investigate representation petitions, and conduct or supervise representation elections.

44. VA may disclose information from this system to the Equal Employment Opportunity Commission (EEOC) when requested in connection with investigations of alleged or possible discriminatory practices, examination of Federal affirmative employment programs, or other functions of the Commission as authorized by law or regulation.

45. VA may disclose information or records from this system to appropriate Federal Government agencies, upon request, for employee accountability purposes, during the time of a declared national, state, or local emergency.

DISCLOSURE TO CONSUMER REPORTING AGENCIES:

Disclosures pursuant to 5 U.S.C. 552a(b)(12), VA may disclose records from this system of records to consumer reporting agencies as defined in the Fair Credit Reporting Act (15 U.S.C. 1681a(f)) or the Federal Claims Collection Act of 1966 (31 U.S.C. 3701(a)(3)). The disclosure is limited to information necessary to establish the identity of the individual, including name, address, and taxpayer identification number (social security number), the amount, status and history of the claim; and the agency or program under which the claim arose for the sole purpose of allowing the consumer reporting agency to prepare a commercial credit report. 31 U.S.C. 3711(e) governs the release of names and addresses of any person to consumer reporting agencies under certain circumstances.

POLICIES AND PRACTICES FOR STORING, RETRIEVING, ACCESSING, RETAINING, AND DISPOSING OF RECORDS IN THE SYSTEM:

STORAGE:

Paper documents, microfilm, microfiche, and computer storage media.

RETRIEVABILITY:

These records may be retrieved using various combinations of name, birth date, social security number, or identification number of the individual on whom the records are maintained.

SAFEGUARDS:

PHYSICAL SECURITY:

Access to these records is restricted to authorized VA employees, contractors, or subcontractors on a “need to know” basis. Offices where these records are maintained are locked after working hours and are protected from outside access by the Federal Protective Service, other security officers, and alarm systems. Access to computerized records is restricted to authorized VA employees, contractors, or subcontractors by means of unique user identification and passwords.

RETENTION AND DISPOSAL:

The payroll records are maintained for the period of the employee's service in VA and are then transferred to the National Personnel Records Center for storage or, as appropriate, to the next employing Federal agency. Other records are either retained at VA for various lengths of time in accordance with NARA records schedules or destroyed when they have served their purpose or the employee leaves VA. Records contained in computer accessible media may be retained indefinitely as a basis for longitudinal work history statistical studies. After the disposition date of related paper-based payroll records in General Records Schedules 1 and 2, the records in this system will not be used in making decisions concerning employees.

SYSTEM MANAGER(S) AND ADDRESS:

Deputy Assistant Secretary for Finance (047), VA Central Office, Washington, DC 20420.

NOTIFICATION PROCEDURE:

Individuals seeking information concerning the existence of a record pertaining to themselves must submit a written request to the VA station of employment. Such request must contain a reasonable description of the records requested. In addition, identification of the individual requesting the information will be required in the written request and will consist of the requester's name, signature, address, and social security number, or other identifier, as a minimum.

VA uses the self-service application, MyPay, which is provided by DFAS to all Federal agencies receiving payroll services. MyPay provides VA employees and managers with a way to process their personal and benefit transactions without the personal assistance of human resources or payroll staff. Access is obtained through the use of the employee's social security number and a personal identification number (PIN).

RECORD ACCESS PROCEDURE:

See “Notification Procedure” above.

CONTESTING RECORD PROCEDURE:

Current and former VA employees wishing to request amendment of their records should contact their current station of employment. Individuals must furnish the following for their records to be located and identified: Full name, social security number, or other identifier, and signature.

RECORD SOURCE CATEGORIES:

Information received from employees, VA officials, other Federal, State, and local agencies.

[FR Doc. 2012-16167 Filed 6-29-12; 8:45 am]

BILLING CODE 8320-01-P